DEPARTMENT OF HOUSING AND URBAN DEVELOPMENT

[Docket No. FR-4572-D-05]

Order of Succession

AGENCY: Office of the Assistant Secretary for Housing, HUD.

ACTION: Notice of Order of Successions

SUMMARY: In this notice, the Assistant Secretary for Housing designates the Order of Succession for the office of Housing. This Order of Succession supersedes the Order of Succession for the Assistant Secretary for Housing, published at 57 FR 53771 (November 12, 1992).

EFFECTIVE DATE: July 26, 2000.

FOR FURTHER INFORMATION CONTACT: Eliot C. Horowitz, Attorney Advisor to the Assistant Secretary for Housing, Department of Housing and Urban Development, Room 9110, 451 7th Street, SW, Washington, DC 20410, (202) 708-3600. (This is not a toll-free number.) This number may be accessed via TTY by calling the Federal Information Relay Service at 1-800-877-8339 (toll-free).

SUPPLEMENTARY INFORMATION: The Assistant Secretary for Housing is issuing this Order of Succession of officials authorized to perform the functions and duties of the Office of the Assistant Secretary for Housing when, by reason of absence, disability, or vacancy in office, the Assistant Secretary is not available to exercise the powers or perform the duties of the office. This Order of Succession is subject to the provisions of the Vacancy Reform Act of 1998, 5 U.S.C. 3345-3349d. This publication supersedes the Order of Succession notice on November 12, 1992 at 57 FR 53771.

Accordingly, the Assistant Secretary for Housing designates the following Order of Succession:

Section A. Order of Succession

Subject to the provisions of the Vacancy Reform Act of 1998, during any period when, by reason of absence, disability, or vacancy in office, the Assistant Secretary for Housing is not available to exercise the powers or perform the duties of the Office of Assistant Secretary for Housing, the following officials within the Office of Housing are hereby designated to exercise the powers and perform the duties of the Office:

(1) General Deputy Assistant Secretary for Housing;

(2) Associate General Deputy Assistant Secretary for Housing;

(3) Deputy Assistant Secretary for Multifamily Housing;

(4) Deputy Assistant Secretary for Single Family Housing;

(5) Deputy Assistant Secretary for Operations;

(6) Housing—FHA Comptroller.

These officials shall perform the functions and duties of the Office in the order specified herein, and no official shall serve unless all the other officials, whose position titles precede his/hers in this order, are unable to act by reason of absence, disability, or vacancy in office.

Section B. Authority Superseded

This Order of Succession supersedes the Order of Succession for the Assistant Secretary for Housing, published at 57 FR 53771 (November 12, 1992).

Authority: Section 7(d), Department of Housing and Urban Development Act, 42 U.S.C. 3535(d).

Dated: July 26, 2000.
William C. Apgar,
Assistant Secretary for Housing-Federal Housing Commissioner.

[FR Doc. 00-21390 Filed 8-21-00; 8:45 am]

BILLING CODE 4210-27-M